DEPARTMENT OF HOMELAND SECURITY

U.S. Customs and Border Protection

DEPARTMENT OF THE TREASURY

19 CFR Part 12

[CBP Dec. 24-12]

RIN 1515-AE66

Imposition of Import Restrictions on Archaeological and Ethnological Material of Tunisia

AGENCY: U.S. Customs and Border Protection, Department of Homeland Security; Department of the Treasury.

ACTION: Final rule.

SUMMARY: This document amends the U.S. Customs and Border Protection (CBP) regulations to reflect the imposition of import restrictions on certain archaeological and ethnological material from the Republic of Tunisia (Tunisia). These restrictions are imposed pursuant to an agreement between the United States and Tunisia, entered into under the authority of the Convention on Cultural Property Implementation Act. This document amends the CBP regulations by adding Tunisia to the list of countries which have bilateral agreements with the United States imposing cultural property import restrictions and contains the Designated List, describing the archaeological and ethnological materials to which the restrictions apply.

DATES: Effective on July 22, 2024.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on certain archaeological and ethnological material. Pursuant to the CPIA, the United States entered into a bilateral agreement with the Republic of Tunisia (Tunisia) to impose import restrictions on certain archaeological and ethnological material of Tunisia. This rule announces that the United States is now imposing import restrictions on certain archaeological and ethnological material of Tunisia through February 6, 2029. This period may be extended for additional periods, each extension not to exceed five years, if it is determined that the factors justifying the initial agreement still pertain and no cause for suspension of the agreement exists (19 U.S.C. 2602(e); § 12.104g(a) of title 19 of the Code of Federal Regulations (19 CFR 12.104g(a))).

Determinations

Under 19 U.S.C. 2602(a)(1), the United States must make certain determinations before entering into an agreement to impose import restrictions under 19 U.S.C. 2602(a)(2). On September 23, 2020, the Assistant Secretary for Educational and Cultural Affairs, United States Department of State, after consultation with and recommendation by the Cultural Property Advisory Committee, made the determinations required under the statute with respect to certain archaeological and ethnological material originating in Tunisia that is described in the Designated List set forth below in this document.

These determinations include the following: (1) that the cultural patrimony of Tunisia is in jeopardy from the pillage of archaeological material representing Tunisia's cultural heritage dating from approximately 200,000 B.C. to A.D. 1750, and ethnological material representing Tunisia's cultural heritage from the Ottoman and early Husseinite periods, ranging in date from approximately A.D. 1574 to 1881 (19 U.S.C. 2602(a)(1)(A)); (2) that the Tunisian government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

The Agreement

On March 16, 2023, the Governments of the United States and Tunisia signed a bilateral agreement, “Memorandum of Understanding between the Government of the United States of America and the Government of the Republic of Tunisia Concerning the Imposition of Import Restrictions on Archaeological and Ethnological Material of Tunisia” (the Agreement), pursuant to the provisions of 19 U.S.C. 2602(a)(2). The Agreement entered into force on February 6, 2024, following the exchange of diplomatic notes, and enables the promulgation of import restrictions on certain categories of archaeological material ranging in date from approximately 200,000 B.C. to A.D. 1750, as well as certain categories of ethnological material from the Ottoman and early Husseinite periods, ranging in date from approximately A.D. 1574 to 1881. A list of the categories of archaeological and ethnological material subject to the import restrictions is set forth later in this document.

Restrictions and Amendment to the Regulations

In accordance with the Agreement, importation of material designated below is subject to the restrictions of 19 U.S.C. 2606 and 19 CFR 12.104g(a) and will be restricted from entry into the United States unless the conditions set forth in 19 U.S.C. 2606 and 19 CFR 12.104c are met. CBP is amending 19 CFR 12.104g(a) to indicate that these import restrictions have been imposed.

Import restrictions listed at 19 CFR 12.104g(a) are effective for no more than five years beginning on the date on which an agreement enters into force with respect to the United States. This period may be extended for additional periods of not more than five years if it is determined that the factors which justified the agreement still pertain and no cause for suspension of the agreement exists. Therefore, the import restrictions will expire on February 6, 2029, unless extended.

Designated List of Archaeological and Ethnological Material of Tunisia

The Agreement between the United States and Tunisia includes, but is not limited to, the categories of objects described in the Designated List set forth below. Importation of material on this list is restricted unless the material is accompanied by documentation certifying that the material left Tunisia legally and not in violation of the export laws of Tunisia.

The Designated List includes archaeological and ethnological material from Tunisia. The archaeological material in the Designated List includes, but is not limited to, objects made of stone, ceramic, metal, bone, ivory, shell and other organic materials, glass, faience, semi-precious stone, painting, plaster, wood, and textiles ranging in date from approximately 200,000 B.C. to A.D. 1750. The ethnological material in the Designated List includes, but is not limited to, architectural elements, manuscripts, and ceremonial, ritual, and funerary objects of the Islamic culture from the Ottoman and early Husseinite periods, ranging in date from approximately A.D. 1574 to 1881. This would exclude Jewish ceremonial or ritual objects. The Designated List is representative only. Any dates and dimensions are approximate.

Categories of Archaeological and Ethnological Material

I. Archaeological Material

A. Stone

B. Ceramic

C. Metal

D. Bone, Ivory, Shell, and Other Organic Materials

E. Glass, Faience, and Semi-Precious Stone

F. Painting and Plaster

G. Textiles, Basketry, and Rope

H. Wood

II. Ethnological Material

A. Stone

B. Metal

C. Ceramic and Clay

D. Wood

E. Bone, Ivory, and Shell

F. Glass and Semi-Precious Stone

G. Leather, Parchment, and Paper

H. Textiles

Approximate chronology of well-known periods and sites:

Paleolithic period (c. 200,000-6000 B.C.): Bir Oum Ali, Chotts, El Akarit, El Mekta, Gafsa, Khanguet el Mouhaad, Redayef, Sidi Zin

Neolithic period (c. 6000-1100 B.C.): Ain Khanfous, Dhraa Lassoued, Dougga, Djebibina, Ghomrassen, Jebel Ousselat

Phoenician/Punic period (c. 1100-300 B.C.): Arg el Ghazouani, Carthage, Hadrumetum, Kerkouane, Utica

Numidian period (c. 300-29 B.C.): Dougga, Chemtou (Simittus), Ellès (Ulules), Hammam Zouakra (Thigibba), Henchir Bourgou, Makthar (Mactaris)

Roman period (c. 29 B.C.-A.D. 500): Bulla Regia, Carthage, Chemtou, Dougga, El Jem, Kerkouane, Ksar Ghilane (Tisavar), Makthar, Neapolis, Sufetula, Uthina, Utica

Vandal period (c. A.D. 439-533): Carthage

Byzantine period (c. A.D. 500-647): Bulla Regia, Chemtou (Simittus), Kélibia

Islamic period (A.D. 647-1574): Djerba, Gabés, Hammamet, Kairouan, Gabés, Mahdia, Monastir, Raqqada, Sabra al-Mansuriya, Sfax, Sousse, Tozeur, Tunis

Ottoman/Husseinite period (A.D. 1574-1881): al-Kef, Bizerte, Ghar al-Melh, Jédeida, Kairouan, Medjez al-Bab, Qal`at al-Andalus, Soliman, Testour, Tébourba, Tunis (noting that import restrictions for this period apply to categories of archaeological material dating up to the middle of the Ottoman/Husseinite period in Tunisia, A.D. 1750).

I. Archaeological Material

Archaeological material includes categories of objects from the Stone Age (Paleolithic and Neolithic), Lybic, Phoenician, Punic, Roman, Vandal, Byzantine, Islamic, Ottoman, and early Husseinite periods and cultures, ranging in date from approximately 200,000 B.C. to A.D. 1750.

A. Stone

1. Architectural Elements—This category includes doors, door frames, window fittings, columns, capitals, bases, lintels, jambs, roofs, archways, friezes, pilasters, engaged columns, altars, prayer niches (mihrabs), screens, fountains, inlays, and blocks from walls, floors, and ceilings of buildings. Architectural elements may be plain, molded, or carved and are often decorated with motifs and inscriptions. Marble, limestone, sandstone, and gypsum are most commonly used, in addition to porphyry and granite.

2. Mosaics—Floor mosaics are made from stone cut into small bits (tesserae) or glass and laid into a plaster matrix. Wall and ceiling mosaics are made with a similar technique but may include tesserae of both stone and glass. Subjects can include landscapes; scenes of deities, humans, or animals; religious imagery; and activities, such as hunting or fishing. There may also be vegetative, floral, or geometric motifs and imitations of stone.

3. Architectural and Non-Architectural Relief Sculptures—Types include carved slabs with figural, vegetative, floral, geometric, or other decorative motifs, carved relief vases, steles, palettes, and plaques. All types can sometimes be inscribed in various languages, plastered, or painted. Sculptures may be used for architectural decoration, including in religious, funerary (e.g., grave markers), votive, or commemorative monuments. Marble, limestone, and sandstone are most commonly used.

4. Monuments—Types include votive statues, funerary or votive stelae, and bases and base revetments made of marble, limestone, and other kinds of stone. These may be painted, plastered, carved with relief sculpture, decorated with moldings, and/or carry dedicatory or funerary inscriptions in various languages.

5. Statuary—Types include large-scale representations of deities, humans, animals, or hybrid figures made of marble, limestone, or sandstone. The most common types of statuary are large-scale and free-standing statuary from approximately 1 m to 2.5 m (approximately 3 ft to 8 ft) in height and life-sized portrait busts (head and shoulders of an individual). Statuary figures may be painted.

6. Figurines—Figurines are small-scale representations of deities, humans, or animals made of limestone, calcite, marble, or sandstone.

7. Sepulchers—Types of burial containers include sarcophagi, caskets, reliquaries, and chest urns made of marble, limestone, or other kinds of stone. Sepulchers may be plain or have figural (including those typical of Punic/Phoenician deities such as Tanit and Astarte), geometric, or floral motifs painted on them. They may be carved in relief and/or have decorative moldings.

8. Vessels and Containers—These include bowls, cups, jars, jugs, lamps, flasks, and smaller funerary urns. Funerary urns can be egg-shaped vases with button-topped covers and may have sculpted portraits, painted geometric motifs, inscriptions, scroll-like handles, and/or be ribbed. Vessels and containers can be made of marble, limestone, calcite, or other stone.

9. Furniture—Types include thrones, tables, and beds, from funerary or domestic contexts. Furniture may be made from marble or other stone.

10. Tools and Weapons—Chipped stone types include blades, borers, scrapers, sickles, burins, notches, retouched flakes, cores, arrowheads, cleavers, knives, chisels, and microliths (small stone tools). Ground stone types include grinders (e.g., mortars, pestles, millstones, whetstones, querns), choppers, spherical-shaped hand axes, hammers, mace heads, and weights. The most commonly used stones are flint, chert, obsidian, and other hard stones.

11. Jewelry—Types include seals, beads, finger rings, and other personal adornment made of marble, limestone, or various semi-precious stones, including rock crystal, amethyst, jasper, agate, steatite, and carnelian.

12. Seals and Stamps—These are small devices with at least one side engraved (in intaglio and relief) with a design for stamping or sealing. Stamps and seals can be in the shape of squares, disks, cones, cylinders, or animals.

13. Rock Art—Rock art can be painted and/or incised drawings on natural rock surfaces. Common motifs include humans, animals, geometric, and/or floral elements.

B. Ceramic

1. Architectural Elements—These are baked clay (terracotta) elements used to decorate buildings. Examples include acroteria, antefixes, painted and relief plaques, revetments, carved and molded bricks, knobs, plain or glazed roof tiles, and glazed tile wall ornaments and panels.

2. Figurines—These include clay (terracotta) statues and statuettes in the shape of deities, humans, and animals ranging in height from approximately 5 cm to 20 cm (2 in to 8 in). Ceramic figurines may be undecorated or decorated with paint, appliques, or inscribed lines.

3. Vessels and Containers—Types, forms, and decoration vary among archaeological styles and over time. Shapes include jars, jugs, bowls, pitchers, plates, basins, cups, flasks, storage and shipping amphorae, cooking pots (such as Roman mortaria), and large water jugs (zirs). Specific Punic, Phoenician, and Roman types include hydriae, oinochoi, kylikes, albastra, aryballoi, pyxides, unguentaria, kantharoi, kylixes, askoi, and lekythoi. Roman terra sigillata and other red gloss wares are common. Examples may be painted or unpainted, handmade or wheel-made, and may be decorated with burnishes, glazes, stamps, or carvings (such as incised sgraffitto). Ceramic vessels can depict imagery of humans, deities, animals, floral decorations, or inscriptions in multiple languages.

4. Lamps—Lamps can be handmade or molded, glazed or unglazed, and appear in “saucer,” “slipper,” or other forms; they typically will have rounded bodies with a hole on the top and in the nozzle, handles or lugs, and may be decorated with motifs, such as beading, human faces, and rosettes or other floral elements. Inscriptions may also be found on the body. Later period examples such as glazed mosque lamps may have straight or round, bulbous bodies with a flared top and several branches.

5. Objects of Daily Use—These include game pieces carved from ceramic sherds, loom weights, toys, guttus, incense burners, tobacco pipes, andirons, and ceramic sherds painted with text in Latin or Greek, called ostraka.

C. Metal

1. Statuary—These are large- and small-scale, including deities, human, and animal figures in bronze, iron, silver, or gold. Common types are large-scale, free-standing statuary ranging in height from approximately 1 m to 2.5 m (approximately 3 ft to 8 ft) and life-size busts (head and shoulders of an individual).

2. Reliefs—These include plaques, appliques, steles, and masks, often in bronze. Reliefs may include inscriptions in various languages.

3. Inscribed or Decorated Sheet Metal—These are engraved inscriptions and thin metal sheets with engraved or impressed designs often used as attachments to furniture or figures. They are primarily made of copper alloy, bronze, or lead.

4. Vessels and Containers—Forms include bowls, cups, plates, jars, jugs, strainers, cauldrons, and boxes, as well as vessels in the shape of an animal or part of an animal. This category also includes scroll and manuscript containers, reliquaries, and incense burners. These vessels and containers are made of bronze, silver, or gold, and may portray deities, humans, or animals, as well as floral motifs in relief. They may include an inscription.

5. Jewelry—Jewelry includes necklaces, chokers, pectorals, finger rings, beads, pendants, bells, belts, buckles, earrings, diadems, straight pins and fibulae, bracelets, anklets, girdles, wreaths and crowns, cosmetic accessories and tools, metal strigils (scrapers), crosses, and lamp holders. Jewelry may be made of iron, bronze, silver, or gold. Metal can be inlaid with items, such as colored stones and glass.

6. Seals and Sealings—Seals are small devices with at least one side engraved with a design for stamping or sealing. Types include finger rings, amulets, and seals with a shank. Seals can be made of lead, tin, copper, bronze, silver, and/or gold. Sealings are lead strips, stamped in Arabic, that are used for closing bags of coins.

7. Tools—Types include hooks, weights, axes, scrapers, hammerheads, trowels, locks, keys, nails, hinges, tweezers, ingots, mirrors, thimbles, and fibulae (for pinning clothing); tools may be made of copper, bronze, or iron.

8. Weapons and Armor—This includes body armor, such as helmets, cuirasses, bracers, shin guards, and shields, and horse armor, often decorated with elaborate designs that are engraved, embossed, or perforated. This also includes both launching weapons (e.g., spears, javelins, arrowheads) and hand-to-hand combat weapons (e.g., swords, daggers, etc.) in copper, bronze, and iron.

9. Lamps—Lamps can be open saucer-type or closed, rounded bodies with a hole on the top and in the nozzle, handles, or lugs. They can include decorative designs, such as beading, human faces, animals or animal parts, and rosettes or other floral elements. This category includes handheld lamps, candelabras, braziers, sconces, chandeliers, and lamp stands.

10. Coins—This category includes coins of Numidian, Carthaginian (sometimes called Punic), Roman provincial, Vandal, Byzantine, Islamic, Norman, and Ottoman types that circulated primarily in Tunisia, ranging in date from the fifth century B.C. to A.D. 1750. Numidian, Roman provincial, and Vandal coins were made primarily in bronze, though some Numidian and Vandal types occur also in silver. Carthaginian types occur in electrum, a natural pale yellow alloy of gold and silver. Local Byzantine and later coin types were made in copper, bronze, silver, and gold. Coins may be square or round, have writing, and show imagery of animals, buildings, symbols, or royal figures.

D. Bone, Ivory, Shell, and Other Organic Materials

1. Small Statuary and Figurines—These include representations of deities, humans, or animals in bone or ivory. These range from approximately 10 cm to 1 m (4 in to 40 in).

2. Reliefs, Plaques, Steles, and Inlays—These are carved and sculpted and may have figurative, floral, and/or geometric motifs. Examples may also have inscriptions in various languages.

3. Jewelry—Types include amulets, pendants, combs, pins, spoons, bracelets, buckles, beads, and pectorals. Jewelry can be made of bone, ivory, and spondylus shell.

4. Seals and Stamps—These are small devices with at least one side engraved with a design for stamping or sealing. Seals and stamps can be in the shape of squares, disks, cones, cylinders, or animals.

5. Vessels and Luxury Objects—Ivory, bone, and shell were used either alone or as inlays in luxury objects, including furniture, chests and boxes, writing and painting equipment, musical instruments, games, cosmetic containers, and combs. Examples can include decorated vessels made of ostrich eggshell.

6. Tools—Tools include bone points and awls, burnishers, needles, spatulae, and fish hooks.

7. Manuscripts—Manuscripts can be written or painted on paper or specially prepared animal skins (e.g., cattle, sheep, goat, camel skins) known as parchment. They may be single leaves, bound as a book or codex, or rolled into a scroll.

8. Human Remains—This includes skeletal remains from the human body, preserved in burials or other contexts.

E. Glass, Faience, and Semi-Precious Stone

1. Architectural Elements—These include glass inlay and tesserae pieces from floor and wall mosaics, mirrors, and windowpanes.

2. Vessels and Containers—These can take various shapes, such as jars, bottles, bowls, beakers, goblets, candle holders, perfume jars (unguentaria), urns, chalices, and flasks. Vessels and containers may have cut, incised, raised, enameled, molded, or painted decoration. Examples may be engraved and/or light blue, blue-green, green, or colorless, while those from later periods may include animal, floral, and/or geometric motifs.

3. Jewelry—Jewelry includes bracelets and rings (often twisted with colored glass); pendants; and beads in various shapes (e.g., circular, globular), some with relief decoration, including multi-colored “eye” beads.

4. Lamps—Lamps may have a straight or round, bulbous body. Some examples are in the form of a goblet with a flared top and engraved or molded decorations, while others are in a conical shape with blobbed decoration that were inset into metal candelabra. Lamps may have a single or several branches.

F. Painting and Plaster

1. Wall Painting—Wall painting can include figurative (i.e., deities, humans, animals), floral, and/or geometric motifs, as well as funerary scenes. These are painted on stone, mud plaster, and lime plaster (wet—buon fresco—and dry—secco fresco), sometimes to imitate marble.

2. Stucco—Stucco is a fine plaster used for coating wall surfaces, or molding and carving into architectural decorations, such as reliefs, plaques, steles, and inlays.

G. Textiles, Basketry, and Rope

1. Textiles—These include linen, hemp, and silk cloth used for burial wrapping, shrouds, garments, banners, and sails. These also include linen and wool used for garments and hangings.

2. Basketry—Plant fibers were used to make baskets and containers in a variety of shapes and sizes, as well as sandals and mats.

3. Rope—Rope and string were used for a great variety of purposes, including binding, lifting water for irrigation, fishing nets, measuring, lamp wicks, and stringing beads for jewelry and garments.

H. Wood

Includes tablets with painted text, generally in Latin but also in Greek. Examples were made from cedar, pine, and other softwoods.

II. Ethnological Material

Ethnological material includes architectural elements, manuscripts, and ceremonial, ritual, and funerary objects of the Islamic culture from the Ottoman and early Husseinite periods, ranging in date from approximately A.D. 1574 to 1881. This would exclude Jewish ceremonial or ritual objects.

A. Stone

1. Architectural Elements—This category includes doors, door frames, window fittings, columns, capitals, plinths, bases, lintels, jambs, roofs, archways, friezes, pilasters, engaged columns, altars, prayer niches (mihrabs), screens, fountains, inlays, and blocks from walls, floors, and ceilings of buildings. Architectural elements may be plain, molded, or carved and are often decorated with motifs and inscriptions. Marble, limestone, and sandstone are most commonly used.

2. Architectural and Non-Architectural Relief Sculpture—This category includes slabs, plaques, steles, capitals, and plinths carved with religious, figural, floral, or geometric motifs or inscriptions in Arabic for ceremonial, ritual, and funerary use. Examples occur primarily in marble, limestone, and sandstone.

3. Memorial Stones and Tombstones—This category includes tombstones, grave markers, and cenotaphs. Examples occur primarily in marble and are engraved with Arabic script.

4. Vessels and Containers—This category includes ceremonial, ritual, and funerary stone lamps and containers.

B. Metal

1. Architectural Elements—This category includes doors, door fixtures, such as knockers, bolts, and hinges, chandeliers, screens, taps, spigots, fountains, and sheets. Copper, brass, lead, and alloys are most commonly used.

2. Architectural and Non-Architectural Relief Sculpture—This category includes appliques, plaques, and steles, primarily made of bronze and brass, for ceremonial, ritual, and funerary use. Examples often include religious, figural, floral, or geometric motifs. They may also have inscriptions in Arabic.

3. Lamps—This category includes handheld lamps, candelabras, braziers, sconces, chandeliers, and lamp stands for ceremonial, ritual, and funerary use.

4. Vessels and Containers—This category includes containers used for religious services, such as Koran (Qur'an) cases, amulet boxes, and incense burners. Brass, copper, silver, and gold are most commonly used. Containers may be plain, engraved, hammered, or otherwise decorated.

5. Musical Instruments—This category includes instruments used in Islamic/Sufi religious ceremonies or rituals, such as cymbals and trumpets.

C. Ceramic and Clay

1. Architectural Elements—This category includes carved and molded brick, and engraved and/or painted and glazed tile wall ornaments and panels, sometimes with Arabic script.

2. Lamps—This category includes glazed mosque lamps that may have straight or round, bulbous bodies with a flared top and several branches.

D. Wood

1. Architectural Elements—This category includes doors, door frames and fixtures, windows, window frames, panels, beams, balconies, stages, screens, prayer niches (mihrabs), minbars, and ceilings. Examples may be decorated with religious, geometric, or floral motifs or inscriptions, and may be either carved or painted.

2. Architectural and Non-Architectural Relief Sculpture—This category includes panels, roofs, beams, balconies, stages, panels, ceilings, and doors for ceremonial, ritual, and funerary use. Examples are carved, inlaid, or painted with decorations of religious, floral, or geometric motifs, or Arabic inscriptions.

3. Furniture—This category includes furniture, such as minbars, professorial chairs, divans, stools, and tables from Islamic ceremonial, ritual, or funerary contexts. Examples can be carved, inlaid, or painted and are made from various types of wood.

4. Vessels and Containers—This category includes containers used for religious purposes such as Koran (Qur'an) cases. Examples may be carved, inlaid, or painted with decorations in religious, floral, or geometric motifs, or Arabic script.

5. Writing Implements—This category includes printing blocks, writing tablets, and Islamic study tablets inscribed in Arabic and used for teaching the Koran (Qur'an).

6. Musical Instruments—This category includes instruments used in Islamic/Sufi religious ceremonies or rituals, such as frame drums (banadir).

7. Beads—This category includes Islamic prayer beads (mas'baha). Examples may be plain or decorated with carved designs.

E. Bone, Ivory, and Shell

1. Architectural Elements—This category includes inlays for architectural elements.

2. Ceremonial Paraphernalia—This category includes boxes, reliquaries (and their contents), plaques, pendants, candelabra, and stamp and seal rings.

F. Glass and Semi-Precious Stone

1. Architectural Elements—This category includes window panes, mosaic elements, inlays, and stained glass.

2. Vessels and Containers—This category includes glass and enamel mosque lamps and vessels used for Islamic religious services.

3. Beads—This category includes Islamic prayer beads (mas'baha) in glass or semi-precious stones.

G. Leather, Parchment, and Paper

1. Books and Manuscripts—Manuscripts can be written or painted on paper or specially prepared animal skins (e.g., cattle, sheep, goat, camel skins) known as parchment. They occur as single leaves, bound with leather or wood as a book or codex, or rolled into a scroll. Types include the Koran (Qur'an) and other Islamic books and manuscripts, often written in black or brown ink, and sometimes embellished with painted colorful floral or geometric motifs.

2. Vessels and Containers—This category includes containers used for Islamic religious services, such as leather Koran (Qur'an) cases or pouches.

3. Musical Instruments—This category includes instruments used in Islamic/Sufi religious ceremonies or rituals, such as leather drums (banadir).

H. Textiles

This category includes hangings, shrine covers, and prayer rugs used in Islamic/Sufi religious ceremonies or rituals. Examples can be made from linen, silk, and/or wool.

References

A Checklist of Islamic Coins (3rd ed.), 2011, S. Album, Stephen Album Rare Coins, Santa Rosa, CA.

Architecture of the Islamic West: North Africa and the Iberian Peninsula, 700-1800, 2020, J.M. Bloom, New Haven, Yale University Press.

Corpus nummorum Numidiae Mauretaniaeque, 1955, J. Mazard, et al., Arts et métiers graphiques, Paris.

De Carthage à Kairouan: 2000 ans d'art et d'histoire en Tunisie, 1982, Muhammad Fantar, Musée du Petit Palais de la Ville de Paris, Paris.

Ifriqiya: Thirteen Centuries of Art and Architecture in Tunisia, 2010, J. Binous, et al., Museum with No Frontiers Travel Books, Vienna.

Objets Kairouanais IXe au XIIIe siècle, 1948, G. Marçais and L. Poinssot, Direction des Antiquités et Arts, Tunis.

Roman Provincial Coinage, Vol. I, From the Death of Caesar to Vitellius (BC 44-AD 69), 1992, A. Burnett, M. Amandry, and P. P. Ripollès, The British Museum Press, London.

Inapplicability of Notice and Delayed Effective Date

This amendment involves a foreign affairs function of the United States and is, therefore, being made without notice or public procedure (5 U.S.C. 553(a)(1)). For the same reason, a delayed effective date is not required under 5 U.S.C. 553(d)(3).

Executive Orders 12866 and 13563

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. CBP has determined that this document is not a regulation or rule subject to the provisions of Executive Orders 12866 and 13563 because it pertains to a foreign affairs function of the United States, as described above, and therefore is specifically exempted by section 3(d)(2) of Executive Order 12866 and, by extension, Executive Order 13563.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

This regulation is being issued in accordance with 19 CFR 0.1(a)(1) pertaining to the Secretary of the Treasury's authority (or that of the Secretary's delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, Reporting and recordkeeping requirements.

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by adding Tunisia to the list in appropriate alphabetical order as follows:

§ 12.104g Specific items or categories designated by agreements or emergency actions.

(a) * * *

State party | Cultural property | Decision No.
* * * * * * *
Tunisia | Archaeological material of Tunisia ranging in date from approximately 200,000 B.C. to A.D. 1750, and ethnological material of Tunisia ranging in date from approximately A.D. 1574 to 1881 | CBP Dec. 24-12.
* * * * * * *

* * * * *

Robert F. Altneu,
Director, Regulations & Disclosure Law Division, Regulations & Rulings, Office of Trade, U.S. Customs and Border Protection.
Aviva R. Aron-Dine,
Acting Assistant Secretary of the Treasury for Tax Policy.

[FR Doc. 2024-16037 Filed 7-19-24; 8:45 am]

BILLING CODE 9111-14-P